DEPARTMENT OF COMMERCE

International Trade Administration

[C-533-916, C-508-815, C-580-917]

Brass Rod From India, Israel, and the Republic of Korea: Postponement of Preliminary Determinations in the Countervailing Duty Investigations

AGENCY: Enforcement and Compliance, International Trade Administration, Department of Commerce.

DATES: Applicable June 30, 2023.

FOR FURTHER INFORMATION CONTACT: Dusten Hom (India), Zachary Shaykin (Israel), and Jacob Saude (the Republic of Korea), AD/CVD Operations, Offices I, IV, and VII, Enforcement and Compliance, International Trade Administration, U.S. Department of Commerce, 1401 Constitution Avenue NW, Washington, DC 20230; telephone: (202) 482-5075, (202) 482-2638, or (202) 482-0981, respectively.

SUPPLEMENTARY INFORMATION:

Background

On May 17, 2023, the U.S. Department of Commerce (Commerce) initiated countervailing duty (CVD) investigations of imports of brass rod from India, Israel, and the Republic of Korea (Korea).¹ Currently, the preliminary determinations are due no later than July 21, 2023.

¹ See Brass Rod From India, Israel, and the Republic of Korea: Initiation of Countervailing Duty Investigations, 88 FR 33566 (May 24, 2023).

Postponement of Preliminary Determinations

Section 703(b)(1) of the Tariff Act of 1930, as amended (the Act) requires Commerce to issue the preliminary determination in a CVD investigation within 65 days after the date on which Commerce initiated the investigation. However, section 703(c)(1) of the Act permits Commerce to postpone the preliminary determination until no later than 130 days after the date on which Commerce initiated the investigation if: (A) the petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On June 22, 2023, the petitioners submitted a timely request that Commerce postpone the preliminary determinations in these investigations.² The petitioners stated that additional time is needed to collect the necessary information for the preliminary determinations.³

² See Petitioners' Letters, “Request to Extend CVD Preliminary Determination,” dated June 22, 2023. The petitioners are Mueller Brass Co. and Wieland Chase LLC, collectively, the American Brass Rod Fair Trade Coalition.

³ Id.

In accordance with 19 CFR 351.205(e), the petitioners have stated the reasons for requesting a postponement of the preliminary determinations, and Commerce finds no compelling reason to deny the request. Therefore, in accordance with section 703(c)(1)(A) of the Act, Commerce is postponing the deadline for the preliminary determinations to no later than 130 days after the date on which these investigations were initiated, i.e., September 25, 2023.⁴ Pursuant to section 705(a)(1) of the Act and 19 CFR 351.210(b)(1), the deadline for the final determinations of these investigations will continue to be 75 days after the date of the preliminary determinations.

⁴ The deadline for the preliminary determinations falls on Sunday, September 24, 2023. Commerce's practice dictates that where a deadline falls on a weekend or Federal holiday, the appropriate deadline is the next business day (in this instance, Monday, September 25, 2023). See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: June 26, 2023.
James Maeder,
Deputy Assistant Secretary for Antidumping and Countervailing Duty Operations.

[FR Doc. 2023-13956 Filed 6-29-23; 8:45 am]

BILLING CODE 3510-DS-P